OVERSEAS PRIVATE INVESTMENT CORPORATION

Sunshine Act; Public Hearing

January 12, 2006.

OPIC's Sunshine Act notice of its Public Hearing in Conjunction with each Board meeting was published in the Federal Register (Volume 70, Number 246, Page 7633) on December 23, 2005. No requests were received to provide testimony or submit written statements for the record; therefore, OPIC's public hearing in conjunction with OPIC's January 19, 2006 Board of Directors meeting scheduled for 3 p.m. on January 12, 2006 has been cancelled.

FOR FURTHER INFORMATION CONTACT: Information on the hearing cancellation may be obtained from Connie M. Downs at (202) 336-8438, via facsimile at (202) 218-0136, or via e-mail at cdown@opic.gov.

January 9, 2006.
Connie M. Downs,
OPIC Corporate Secretary.

[FR Doc. 06-335 Filed 1-10-06; 1:20 pm]

BILLING CODE 3210-01-M